ENVIRONMENTAL PROTECTION AGENCY

[FRL-7218-7]

Environmental Laboratory Advisory Board (ELAB) Meeting Date, and Agenda

AGENCY: Environmental Protection Agency (EPA).

ACTION: Notice of teleconference meeting.

SUMMARY: The Environmental Protection Agency's Environmental Laboratory Advisory Board (ELAB) will have a teleconference meeting on June 19, 2002, at 11 a.m. EDT to discuss the ideas and views presented at the previous ELAB meetings, as well as new business. Items to be discussed include: (1)Update on recommendations to restructure the National Environmental Laboratory Accreditation Conference (NELAC) to allow it to better serve the future needs of EPA, the States, and the private sector, (2) discussion of ELAB recommendations to EPA, (3) review of Action Items from the April 17 ELAB meeting, and (4) ELAB upcoming meeting at NELAC 8. ELAB is soliciting input from the public on these and other issues related to the National Environmental Laboratory Accreditation Program (NELAP) and the NELAC standards. Written comments on NELAP laboratory accreditation and the NELAC standards are encouraged and should be sent to Mr. Edward Kantor,DFO, P.O. Box 93478, Las Vegas NV 89193, faxed to (702) 798-2261, or emailed to kantor.edward@epa.gov. Members of the public are invited to listen to the teleconference calls and, time permitting, will be allowed to comment on issues discussed during this and previous ELAB meetings. Those persons interested in attending should call Edward Kantor at 702-798-2690 to obtain teleconference information. The number of lines are limited and will be distributed on a first come, first serve basis. Preference will be given to a group wishing to attend over a request from an individual.

Dated: May 20, 2002.
John G. Lyon,
Director, Environmental Sciences Division, National Environmental Research Laboratory.

[FR Doc. 02-13352 Filed 5-28-02; 8:45 am]

BILLING CODE 6560-50-P